DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on April 7, 2003 unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on February 25, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2003.
Patricia L. Toppings,
Alternate OSD Federal Register Liaison Officer, Department of Defense.

F035 AF SAFPA D

System name:

Your Guardians of Freedom User Database.

System location:

Doe Anderson Interactive, 620 W. Main Street, Louisville, KY 40202-2933.

Subsystems of the main system may be located at the Public Affairs Offices at Air Force Bases, Air National Guard or Air Force Reserve or similar installations to which an individual is assigned.

Categories of individuals covered by the system:

Air Force personnel, Air Force Reserve Command personnel, and Air National Guard personnel who voluntarily submit information into the system.

Categories of records in the system:

Information in the system includes, but is not limited to, to name, current grade, marital status, local address, name and address of spouse, parents or guardians, photographs, name and address of civilian employer.

Authority for maintenance of the system:

10 U.S.C. 8013, Secretary of the Air Force and E.O. 9397 (SSN).

Purpose(s):

To provide an outreach program for commanders to communicate with families, civilian employers, educators, news media, and political and community leaders about the extensive role of airmen in the war on terrorism.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To civilian employers of Air Reserve Component personnel for purposes of providing information regarding employer and employee rights, benefits, and obligations under the Uniformed Services Employment and Reemployment Rights Act; to accord appropriate public recognition to the employer for his or her support of Air Force programs and employee participation therein; and to provide information regarding Air Force and Air Reserve Component issues, plans, and operations and/or the involvement of employees in such activities.

To family members, political and community leaders, and the news media for purposes of providing information regarding Air Force and Air Reserve Component issues, plans, and operations and/or the involvement of Air Force personnel, active or reserve, in such activities.

The DoD Blanket Routine Uses' that appear at the beginning of the Air Force's compilation of systems of records apply to this system.

Policies and practices for storing, retrieving, accessing, retaining, and disposing of records in the system:

Storage:

Maintained on computers and computer output products.

Retrievability:

Retrieved by individual's name, unit and address.

Safeguards:

Records are accessed by person(s) responsible for servicing the record system in performance of their official duties, and by authorized personnel who are properly screened and cleared for need-to-know. Records in computer storage devices are protected by computer system software.

Retention and disposal:

Disposition pending (until the National Archives and Records Administration disposition is approved, treat records as permanent).

System manager(s) and address:

Director, Your Guardians of Freedom, Office of the Secretary of the Air Force, Public Affairs, SAF/PA, 1690 AF Pentagon, Washington, DC 20330-1690.

Notification procedure:

Individuals seeking to determine whether this system of records contains information about themselves should use the web-based login screen to contact system administrators by e-mail, or should address written requests to Your Guardians of Freedom, SAF/PA, 1690 AF Pentagon, Washington, DC 20330-1690.

Inquiries about a subsystem should be addressed to the Public Affairs Officer at the base or installation of the individual's assignment. Official mailing addresses are published as an appendix to the Air Force's compilation of systems of records.

Record access procedures:

Individuals seeking access to records about themselves contained in this system of records should log into the system using the username and password they received when they initially registered. The web-based login screen provides information to retrieve forgotten passwords.

Individuals can also address written inquiries to Your Guardians of Freedom, SAF/PA, 1690 AF Pentagon, Washington, DC 20330-1690, or the installation Public Affairs Officer. Official mailing addresses are published as an appendix to the Air Force's compilation of systems of records.

Contesting record procedures:

Individuals may log into the system using the username and password they received when they initially registered and alter the information about them contained in the system.

Otherwise, the Air Force rules for accessing records and contesting contents and appealing initial determinations are published in Air Force Instruction 37-132, 32 CFR part 806b, or may be obtained from the system manager.

Record source categories:

Information is obtained from the individual.

Exemptions claimed for the system:

None.

[FR Doc. 03-5268 Filed 3-5-03; 8:45 am]

BILLING CODE 5001-08-P